ENVIRONMENTAL PROTECTION AGENCY

40 CFR Part 52

[PA158-4103a; FRL-6735-7]

Approval and Promulgation of Air Quality Implementation Plans; Commonwealth of Pennsylvania; Approval of Revisions to Volatile Organic Compounds Regulations

AGENCY: Environmental Protection Agency (EPA).

ACTION: Direct final rule.

SUMMARY: EPA is taking direct final action on revisions to the Commonwealth of Pennsylvania State Implementation Plan (SIP) submitted by the Pennsylvania Department of Environmental Protection (PADEP). The revisions remove the alternate emission reduction limitations for the Minnesota Mining and Manufacturing Company (3M) located in Bristol, Pennsylvania, and make corrections to certain Pennsylvania VOC regulations to make them consistent with federal requirements. EPA is approving these revisions to the Commonwealth of Pennsylvania's SIP in accordance with the requirements of the Clean Air Act.

DATES: This rule is effective on September 25, 2000 without further notice, unless EPA receives adverse written comment by August 25, 2000. If EPA receives such comments, it will publish a timely withdrawal of the direct final rule in the Federal Register and inform the public that the rule will not take effect.

ADDRESSES: Written comments should be mailed to David L. Arnold, Chief, Ozone & Mobile Sources Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW, Washington, DC 20460; and Pennsylvania Department of Environmental Protection, Bureau of Air Quality, PO Box 8468, 400 Market Street, Harrisburg, Pennsylvania 17105.

FOR FURTHER INFORMATION CONTACT: Mrs. Kelly L. Bunker (215) 814-2177, or by e-mail at bunker.kelly@epa.gov.

SUPPLEMENTARY INFORMATION:

I. Background

On March 6, 2000 the Commonwealth of Pennsylvania submitted a formal revision to its State Implementation Plan (SIP). The SIP submittal consisted of revisions to certain VOC, particulate, and sulfur dioxide (SO2) regulations. The revisions to certain VOC regulations are the subject of this rulemaking action. The particulate and (SO2) regulation revisions will be addressed in a separate rulemaking action.

II. Summary of SIP Revision

As part of the Commonwealth's Regulatory Basics Initiative (RBI), the Pennsylvania Department of Environmental Protection (PADEP) was tasked to review the Commonwealth's existing regulations and identify those that were more stringent than Federal requirements, were obsolete, redundant or no longer necessary. As a result of this initiative, several VOC regulations were found to be obsolete or needed to be revised to conform to Federal requirements. These SIP revisions address revisions resulting from the RBI.

These revisions remove 25 PA Code section 128.14, pertaining to the Minnesota Mining and Manufacturing Company, Bristol, Pennsylvania; add the term “less water” to 25 PA Code section 129.67(b)(2), Graphic Arts Systems; and add amendments to 25 PA Code section 129.56, Storage Tanks Greater than 40,000 Gallons Capacity Containing VOCs, providing a time frame for repairing or emptying of defective organic liquid storage tanks.

25 PA Code section 128.14, Minnesota Mining and Manufacturing Company (3M), Bristol, Pennsylvania, is being removed. This provision implemented alternative emission reduction limitations, also known as a “bubble,” for ten surface coating processes at the 3M facility. Eight (8) of the ten (10) coating processes under the bubble were decommissioned and removed in 1990; therefore, the alternative emission reduction limitations are no longer valid or necessary. The remaining two coating processes are subject to 25 PA Code section 129.52 Table I(5).

Regulations for graphic arts systems are being revised to add the term “less water” to 25 PA Code section 129.67(b)(2). This revision will clarify that water is not to be considered when determining the solids content of the ink. This revision complies with the EPA Control Technique Guidelines (CTG) reference document entitled, “A Guideline for Graphic Arts Calculations,” PEI Associates Inc., U.S. EPA Contract No. 68-02-3963, 1988.

Procedures for repairing defective floating roof seals on volatile organic storage tanks are being added to 25 PA Code section 129.56. The revisions allow the owners and operators of volatile organic liquid storage tanks to empty the tanks and repair the defective seals within 45 days. A 30-day extension may be requested from the Commonwealth if the failure cannot be repaired within 45 days and if the tank cannot be emptied in 45 days. These revisions comply with the federal requirements found in 40 CFR 60.113b(b)(4)(iii) relating to testing and procedures for volatile organic liquid storage vessels.

EPA is publishing this rule without prior proposal because the Agency views this as a noncontroversial amendment and anticipates no adverse comment since the revisions are administrative changes to the state regulations. However, in the “Proposed Rules” section of today's Federal Register, EPA is publishing a separate document that will serve as the proposal to approve the SIP revision if adverse comments are filed. This rule will be effective on September 25, 2000 without further notice unless EPA receives adverse comment by August 25, 2000. If EPA receives adverse comment, EPA will publish a timely withdrawal in the Federal Register informing the public that the rule will not take effect. EPA will address all public comments in a subsequent final rule based on the proposed rule. EPA will not institute a second comment period on this action. Any parties interested in commenting must do so at this time.

III. Final Action

EPA is approving, as revisions to the Pennsylvania SIP, the removal of 25 PA Code section 128.14, pertaining to Minnesota Mining and Manufacturing Company, Bristol, Pennsylvania; the addition of the term “less water” to 25 PA Code section 129.67(b)(2), Graphic Arts Systems; and the addition of amendments to 25 PA Code section 129.56, Storage Tanks Greater than 40,000 Gallons Capacity Containing VOCs, which provide a time frame for the repairing or emptying of defective organic liquid storage tanks.

IV. Administrative Requirements

A. General Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action must be filed in the United States Court of Appeals for the appropriate circuit by September 25, 2000. Filing a petition for reconsideration by the Administrator of this final rule does not affect the finality of this rule for the purposes of judicial review nor does it extend the time within which a petition for judicial review may be filed, and shall not postpone the effectiveness of such rule or action.

This approval of revisions to Pennsylvania volatile organic compounds regulations may not be challenged later in proceedings to enforce its requirements. (See section 307(b)(2).)

List of Subjects in 40 CFR Part 52

Environmental protection, Air pollution control, Hydrocarbons, Incorporation by reference, Intergovernmental relations, Ozone, Reporting and recordkeeping requirements.

Dated: June 30, 2000.
Bradley M. Campbell,
Regional Administrator, Region III.

40 CFR part 52 is amended as follows:

PART 52—[AMENDED]

1. The authority citation for part 52 continues to read as follows:

Authority: 42 U.S.C. 7401 et seq.

Subpart NN—Pennsylvania

2. Section 52.2020 is amended by adding paragraphs (c)(147) to read as follows:

§ 52.2020 Identification of plan.

* * * * *

(c) * * *

(147) Revisions to the Pennsylvania Regulations pertaining to certain VOC regulations submitted on March 6, 2000 by the Pennsylvania Department of Environmental Protection:

(i) Incorporation by reference.

(A) Letter of March 6, 2000 from the Pennsylvania Department of Environmental Protection transmitting the revisions to VOC regulations.

(B) Addition of the term “less water” to 25 PA Code Chapter 129, Standard for Sources, at section 129.67(b)(2) Graphic Arts Systems; addition of paragraph (h) to 25 PA Code Chapter 129, Standard for Sources, at section 129.56, Storage Tanks Less than 40,000 Gallons Capacity Containing VOCs; and revisions to 25 PA Code Chapter 128 to remove section 128.14, pertaining to the Minnesota Mining and Manufacturing Company, Bristol, Pennsylvania. These revisions became effective on September 5, 1998.

(ii) Additional Material.—Remainder of March 6, 2000 submittal.

[FR Doc. 00-18785 Filed 7-25-00; 8:45 am]

BILLING CODE 6560-50-P